ENVIRONMENTAL PROTECTION AGENCY

[ER-FRL-6642-3]

Environmental Impact Statements; Notice of Availability

Responsible Agency: Office of Federal Activities, General Information (202) 564-7167 or http://www.epa.gov/compliance/nepa/.

Weekly receipt of Environmental Impact Statements

Filed July 14, 2003 Through July 18, 2003

Pursuant to 40 CFR 1506.9.

EIS No. 030330, Draft EIS, AFS, CO, Copper Mountain Resort Trails and Facilities Improvements, Implementation, Special Use Permit, White River National Forest, Dillon Ranger District, Summit County, CO, Comment Period Ends: September 8, 2003, Contact: Michael Liu (970) 468-5400.

EIS No. 030331, Final EIS, AFS, CA, Blue Fire Forest Recovery Project, Proposal to Move the Existing Condition Caused by the Blue Fire of 2001 Towards the Desired Condition, Modoc National Forest, Warner Mountain Ranger District, Lassen and Modoc Counties, Wait Period Ends: August 25, 2003, Contact: Edith Asrow (530) 279-6116. This document is available on the Internet at: http://www.fs.fed.us/r5/modoc/publications/Bluefeis.shtml.

EIS No. 030332, Final EIS, AFS, CO, Trout-West Hazardous Fuels Reduction Project, Proposed Action to Reduce Fuels, Pike-San Isabel National Forest, Trout and West Creek Watersheds, Teller, El Paso and Douglas Counties, CO, Wait Period Ends: August 25, 2003, Contact: Rochelle Desser (541) 592-4075. This document is available on the Internet at: http://www.fs.fed.us/r2/psicc/spl/twest.htm.

EIS No. 030333, Draft EIS, IBR, CA, Battle Creek Salmon and Steelhead Restoration Project, Restoring Habitat in Battle Creek and Tributaries, License Amendment Issuance, Implementation, Tehama and Shasta Counties, CA, Comment Period Ends: September 22, 2003, Contact: Mary Marshall (916) 978-5248.

EIS No. 030334, Final EIS, AFS, OR, Metolius Basin Forest Management Project, Fuel Reduction and Forest Health Management Activities, Implementation, Deschutes National Forest, Sisters Ranger District, Jefferson County, OR, Wait Period Ends: August 25, 2003, Contact: Kris Martinson (541) 549-7730.

EIS No. 030335, Draft EIS, AFS, WA, Gotchen Risk Reduction and Restoration Project, Implementation, Mount Adams Ranger District, Gifford Pinchot National Forest, Skamania and Yakima Counties, WA, Comment Period Ends: September 8, 2003, Contact: Julie Knutson (509) 395-3410.

EIS No. 030336, Final EIS, AFS, MT, Management Area 11 Snowmobile Use Areas on the Seeley Lake Ranger District, Implementation, Lola National Forest, Missoula and Powell Counties, MT, Wait Period Ends: August 25, 2003, Contact: Timothy Love (406) 677-2233.

EIS No. 030337, Draft EIS, AFS, OR, Mt. Ashland Ski Area Expansion, Site Specific Project, Maintenance and Enhancements of Environmental Resources, Implementation, Special Use Permit, Ashland Ranger District, Rogue River National Forest and Scott River Ranger District, Klamath National Forest, Jackson County, OR, Comment Period Ends: September 23, 2003, Contact: John Schuyler (541) 482-3333.

EIS No. 030338, Draft EIS, FRC, OR, Bull Run Hydroelectric Project (FERC No.477-024), Proposal to Decommission Bull Run Project, and Remove Facilities Project, Including Marmot Dam, Little Sandy Diversion Dam and Roslyn Lake, Application to Surrender its License), Sandy, Little Sandy, Bull Run Rivers, Town of Sandy, Clackamas County, MS, Comment Period Ends: September 8, 2003, Contact: Alan Mitchnick (202) 502-6074. This document is available on the Internet at: http://www.ferc.gov.

EIS No. 030339, Draft Supplement, FTA, NJ, Newark-Elizabeth Rail Link-Elizabeth Segment to Document the Social, Economic and Transportation Impact of the 5.8 mile Light Rail Transit (LRT) Alignment, Minimal Operable Segment 3 (MOS-3), City of Elizabeth, Union County, NJ, Comment Period Ends: September 8, 2003, Contact: Irwin B. Kessman (212) 668-2170.

EIS No. 030340, Draft Supplement, SCS, MS, Town Creek Watershed Project, To Address the Impact of Installing the Floodwater Retarding Structures (FWRS) No. 1, 5, 8, and 59 and to Delete FWRS No. 10A, Lee, Pontotoc, Prentiss, and Union Counties, MS, Comment Period Ends: September 8, 2003, Contact: Homer L. Wilkes (601) 965-5205.

Amended Notices

EIS No. 030313, Draft EIS, NPS, NY, NJ, Ellis Island and Statue of Liberty National Monument Development Concept Plan, Long-Term Rehabilitation and Reuse for Historic Buildings, Implementation, New York Harbor, NY and NJ, Comment Period Ends: September 12, 2003, Contact: Cynthia Garrett (212) 363-3206 ext. 100. Revision of FR Notice Published on 7/11/2003: Correction to Contact Person Name and Telephone Number.

EIS No. 030327, Draft EIS, FRC, CT, Housatonic River Hydroelectric Project, Application to Relicense Existing Licenses for Housatonic Project No. 2576-022 and the Falls Village Project No. 2597-019, Housatonic River Basin, Fairfield, New Haven and Litchfield Counties, CT, Comment Period Ends: September 16, 2003, Contact: Jack Duckworth (202) 502-6392. Revision of FR Notice Published on 7/18/2003: CEQ Comment Period Ending 9/2/2003 has been Corrected to 9/16/2003.

Dated: July 22, 2003.
Joseph C. Montgomery,
Director, NEPA Compliance Division, Office of Federal Activities.

[FR Doc. 03-19009 Filed 7-24-03; 8:45 am]

BILLING CODE 6560-50-P